DEPARTMENT OF COMMERCE

National Oceanic and Atmospheric Administration

RIN 0648-XC656

Gulf of Mexico Fishery Management Council; Public Meeting

AGENCY: National Marine Fisheries Service (NMFS), National Oceanic and Atmospheric Administration (NOAA), Commerce.

ACTION: Council to convene public meeting.

SUMMARY: The Gulf of Mexico Fishery Management Council (Council) will convene a meeting of the Shrimp Advisory Panel (AP).

DATES: The meeting will convene at 8 a.m. Eastern time on Thursday, May 23, 2013 and is expected to end no later than 4:30 p.m.

ADDRESSES: The meeting will be held at the Gulf of Mexico Fishery Management Council, 2203 North Lois Avenue, Suite 1100, Tampa, FL 33607; telephone: (813) 348-1630.

FOR FURTHER INFORMATION CONTACT: Dr. Carrie Simmons, Deputy Executive Director; Gulf of Mexico Fishery Management Council; telephone: (813) 348-1630.

SUPPLEMENTARY INFORMATION: The Gulf of Mexico Fishery Management Council will convene its Shrimp AP. The Shrimp AP will receive an orientation video about serving as an AP member for the Council. The Shrimp AP will nominate and elect a chair and vice-chair. The Shrimp AP will receive an overview of the current shrimp electronic logbook program (ELB) and discuss cost-sharing opportunities based on the current program. They will also be provided with a summary and demonstration of new shrimp ELB program units, program implementation, and calibration from staff at the Southeast Fisheries Science Center. They will review and provide recommendations on the Framework Action to Establish Funding Responsibilities for the Electronic Logbook Program in the Shrimp Fishery of the Gulf of Mexico. They will hear a biological review of the 2012 Texas closure, status of the brown, pink, and white shrimp stocks, and as well as an update on the 2012 offshore effort estimates. Under other business they will discuss siting and locations of decommissioned oil and gas platforms as part of the Rigs-to-Reef Program.

Copies of the agenda and other related materials can be obtained by calling (813) 348-1630.

Although other non-emergency issues not on the agenda may come before the Shrimp AP for discussion, in accordance with the Magnuson-Stevens Fishery Conservation and Management Act, those issues may not be the subject of formal action during this meeting. Actions of the Shrimp AP will be restricted to those issues specifically identified in the agenda and any issues arising after publication of this notice that require emergency action under Section 305(c) of the Magnuson-Stevens Fishery Conservation and Management Act, provided the public has been notified of the Council's intent to take action to address the emergency.

Special Accommodations

The meeting is physically accessible to people with disabilities. Requests for sign language interpretation or other auxiliary aids should be directed to Kathy Pereira at the Council (see ADDRESSES) at least 5 working days prior to the meeting.

Dated: April 30, 2013.
Tracey L. Thompson,
Acting Deputy Director, Office of Sustainable Fisheries, National Marine Fisheries Service.

[FR Doc. 2013-10518 Filed 5-2-13; 8:45 am]

BILLING CODE 3510-22-P